DEPARTMENT OF HEALTH AND HUMAN SERVICES

Health Resources and Services Administration

National Vaccine Injury Compensation Program: Revised Amount of the Average Cost of a Health Insurance Policy

The Health Resources and Services Administration is publishing an updated monetary amount of the average cost of a health insurance policy as it relates to the National Vaccine Injury Compensation Program (VICP).

Subtitle 2 of Title XXI of the Public Health Service Act, as enacted by the National Childhood Vaccine Injury Act of 1986 and as amended, governs the VICP. The VICP, administered by the Secretary of Health and Human Services (the Secretary), provides that a proceeding for compensation for a vaccine-related injury or death shall be initiated by service upon the Secretary and the filing of a petition with the United States Court of Federal Claims. In some cases, the injured individual may receive compensation for future lost earnings, less appropriate taxes and the “average cost of a health insurance policy, as determined by the Secretary.”

Section 100.2 of the VICP's implementing regulations (42 CFR Part 100) provides that the revised amounts of an average cost of a health insurance policy, as determined by the Secretary, are to be published from time to time in a notice in the Federal Register. The previously published amount of an average cost of a health insurance policy was $248.61 per month (64 FR 10664, March 5, 1999). This amount was based on data from a survey by the Health Insurance Association of America, updated by a formula using changes in the medical care component of the Consumer Price Index (CPI) (All Urban Consumers, U.S. City Average) for the period January 1, 1999, through September 30, 2000.

The Secretary announces that for the 12-month period, January 1, 1999, through December 31, 1999, the medical care component of the CPI increased 3.7 percent. According to the regulatory formula (§ 100.2), 2 percent is added to the actual CPI change for each year. Therefore, the adjusted CPI change results in an increase of 5.7 percent for this 12-month period. Applied to the baseline amount of $248.93, this results in the amount of $263.12 per month.

The CPI change for the 9-month period, January 1, 2000, through September 30, 2000, was 3.5 percent. According to the regulatory formula, three-quarters of the annual adjustment, or 1.5 percent, is added to the actual CPI change for this 9-month period. Therefore, according to the regulatory formula, the adjusted CPI change results in an increase of 5.0 percent for this 9-month period. Applied to the $263.12 amount, this results in a new amount of $276.28 per month.

Therefore, the Secretary announces that the revised average cost of a health insurance policy under the VICP is $276.28 per month. In accordance with § 100.2, the revised amount was effective upon its delivery by the Secretary to the United States Court of Federal Claims (formerly known as the United States Claim Court). Such notice was delivered to the Court on December 28, 2000.

Dated: March 2, 2001.
Claude Earl Fox,
Administrator.

[FR Doc. 01-5816 Filed 3-8-01; 8:45 am]

BILLING CODE 4160-15-P